DEPARTMENT OF AGRICULTURE

Forest Service

Southern Region Recreation Resource Advisory Committee

AGENCY: Forest Service, USDA.

ACTION: Notice of meeting.

SUMMARY: The Southern Region Recreation Resource Advisory Committee (Recreation RAC) will meet in Decatur, Georgia. The Recreation RAC is established consistent with the Federal Advisory Committee Act of 1972 (FACA) (5 U.S.C. App. II), and Federal Lands Recreation Enhancement Act of 2004 (the Act) (Pub. L. 108-447). Additional information concerning the Recreation RAC can be found by visiting the committee's Web site at http://www.fs.usda.gov/main/r8/recreation/racs. The meeting is open to the public.

DATES: The meeting will be held February 26 and 27, 2014, 8:00 a.m.-5:00 p.m. Eastern Standard Time.

ADDRESSES: The meeting will be held at the Courtyard Marriott, 130 Clairemont Avenue, Decatur, GA 30030. Written comments may be submitted as described under Supplementary Information. All comments, including names and addresses, when provided, are placed in the record and available for public inspection and copying. The public may inspect comments received at the USDA Forest Service, P.O. Box 1270, Hot Springs, AR 71902. Visitors are encouraged to call ahead at 501-321-5318 to facilitate entry into the USDA Forest Service building.

FOR FURTHER INFORMATION CONTACT: Caroline Mitchell, Committee Coordinator, USDA Forest Service, P.O. Box 1270, Hot Springs, AR 71902, or by telephone at 501-321-5318. Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to consider fee proposals for areas managed by the Forest Service in Alabama, Arkansas, Florida, Georgia, Kentucky, Louisiana, Mississippi, North Carolina, Oklahoma, South Carolina, Tennessee, Texas, Virginia, and the territory of Puerto Rico; and to discuss other items of interest related to the Act. The following business will also be conducted: committee management and review of recreation fee proposals. Persons who wish to bring recreation fee proposals to the attention of the Recreation RAC may file written statements with the Committee Coordinator before or after the meeting. The agenda will include time for people to make oral statements of three minutes or less. Individuals wishing to make an oral statement should submit a request in writing by February 24, 2014 to be scheduled on the agenda. Written comments and time requests for oral comments must be sent to Caroline Mitchell, Committee Coordinator, USDA Forest Service, P.O. Box 1270, Hot Springs, AR 71902; by email to carolinemitchell@fs.fed.us, or via facsimile to 501-321-5399. A summary of the meeting will be posted on the Web site listed above within 21 days of the meeting.

Meeting Accommodations: If you require reasonable accommodation, please make your request in advance for sign language interpreting, assistive listening devices, or other reasonable accommodation, please request this in advance of the meeting by contacting the person listed in the section titled FOR FURTHER INFORMATION CONTACT. All reasonable accommodation requests are managed on a case by case basis.

Dated: January 28, 2014.
Alison Koopman,
Developed Site Program Manager.

[FR Doc. 2014-02393 Filed 2-4-14; 8:45 am]

BILLING CODE 3411-15-P